DEPARTMENT OF TRANSPORTATION

Federal Aviation Administration

14 CFR Part 39

[Docket No. 2002-NM-140-AD; Amendment 39-13042; AD 2003-03-17]

RIN 2120-AA64

Airworthiness Directives; Dornier Model 328-100 and -300 Series Airplanes

AGENCY: Federal Aviation Administration, DOT.

ACTION: Final rule.

SUMMARY: This amendment adopts a new airworthiness directive (AD), applicable to certain Dornier Model 328-100 and -300 series airplanes, that requires replacement of the screws in the aileron, rudder, and elevator trim tabs with new screws; and removal and re-installation of screws in the aileron, elevator, and rudder trim tabs and the rudder spring tab; as applicable. This action is necessary to prevent reduced structural integrity of the screws in the aileron, elevator, and rudder trim tabs and the rudder spring tab, due to countersinks that were not manufactured correctly, which could result in reduced controllability of the airplane. This action is intended to address the identified unsafe condition.

DATES: Effective March 12, 2003.

The incorporation by reference of certain publications listed in the regulations is approved by the Director of the Federal Register as of March 12, 2003.

ADDRESSES: The service information referenced in this AD may be obtained from FAIRCHILD DORNIER, DORNIER Luftfahrt GmbH, PO Box 1103, D-82230 Wessling, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Dornier Model 328-100 and -300 series airplanes was published in the Federal Register on September 25, 2002 (67 FR 60193). That action proposed to require replacement of the screws in the aileron, rudder, and elevator trim tabs with new screws; and removal and re-installation of screws in the aileron, elevator, and rudder trim tabs and the rudder spring tab; as applicable.

Comments

Interested persons have been afforded an opportunity to participate in the making of this amendment. No comments were submitted in response to the proposal or the FAA's determination of the cost to the public.

Conclusion

The FAA has determined that air safety and the public interest require the adoption of the rule as proposed.

Cost Impact

The FAA estimates that 53 Model 328-100 series airplanes and 48 Model 328-300 series airplanes of U.S. registry will be affected by this AD, that it will take approximately 3 work hours per airplane to accomplish the required actions, and that the average labor rate is $60 per work hour. Required parts will be supplied by the manufacturer at no cost to operators. Based on these figures, the cost impact of the AD on U.S. operators is estimated to be $18,180, or $180 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-03-17 Dornier Luftfahrt GMBH: Amendment 39-13042. Docket 2002-NM-140-AD.

Applicability: Airplanes listed in Table 1 of this AD, certificated in any category. Table 1 follows:

Table 1.—Applicability
Model | Serial numbers
328-100 series airplanes | 3005 through 3119 inclusive.
328-300 series airplanes | 3105 through 3196, excluding 3192 through 3194, inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in 2 accordance with paragraph (e) of this AD. The request should include an assessment of the effect of the modification, alteration, or repair on the unsafe condition addressed by this AD; and, if the unsafe condition has not been eliminated, the request should include specific proposed actions to address it.

Compliance: Required as indicated, unless accomplished previously.

To prevent reduced structural integrity of the screws in the aileron, elevator, and rudder trim tabs and the rudder spring tab, due to countersinks that were not manufactured correctly, which could result in reduced controllability of the airplane, accomplish the following:

Screw Replacement or Removal and Re-Installation

(a) For Model 328-100 series airplanes: Within 2 months after the effective date of this AD, do the actions specified in paragraphs (a)(1), (a)(2), and (a)(3) of this AD; as applicable.

(1) Replace the screws in the aileron trim tab with new screws (including applying zinc-chromate putty, torquing the screws, and removing the squeezed zinc-chromate putty), per Dornier Service Bulletin SB-328-57-350, Revision 2, dated January 16, 2002.

(2) Replace the screws in the rudder and elevator trim tabs with new screws (including applying zinc-chromate putty, torquing the screws, and removing the squeezed zinc-chromate putty), per Dornier Service Bulletin SB-328-55-368, Revision 1, dated December 11, 2001.

(3) Except as provided by paragraph (b) of this AD, do the actions specified in paragraphs (a)(3)(i), (a)(3)(ii), and (a)(3)(iii) of this AD, per Dornier Service Bulletin SB-328-55-422, dated February 8, 2002.

(i) Remove and re-install the screws in the elevator trim tab (including applying zinc-chromate putty, torquing the screws, and removing the squeezed zinc-chromate putty).

(ii) Remove and re-install the screws in the rudder trim tab (including applying zinc-chromate putty, torquing the screws, and removing the squeezed zinc-chromate putty).

(iii) Remove and re-install the screws in the rudder spring tab (including applying zinc-chromate putty, torquing the screws, and removing the squeezed zinc-chromate putty).

(b) For Model 328-100 series airplanes on which the actions specified in Dornier Service Bulletin SB-328-55-368, Revision 1, dated December 11, 2001, have been accomplished, the requirements specified in paragraphs (a)(3)(i) and (a)(3)(ii) of this AD do not need to be accomplished.

(c) For Model 328-300 series airplanes: Within 2 months after the effective date of this AD, do the actions specified in paragraphs (c)(1), (c)(2), (c)(3), and (c)(4) of this AD; as applicable.

(1) For airplanes having serial numbers 3105 through 3174 inclusive: Replace the screws in the aileron trim tab with new screws (including applying zinc-chromate putty, torquing the screws, and removing the squeezed zinc-chromate putty), per Dornier Service Bulletin SB-328J-57-057, Revision 2, dated January 16, 2002.

(2) For airplanes having serial numbers 3105 through 3174 inclusive: Replace the screws in the rudder and elevator trim tabs with new screws (including applying zinc-chromate putty, torquing the screws, and removing the squeezed zinc-chromate putty), per Dornier Service Bulletin SB-328J-55-074, Revision 1, dated December 11, 2001.

(3) For airplanes having serial numbers 3105 through 3196, excluding serial numbers 3192 through 3194 inclusive: Except as provided by paragraph (d) of this AD, do the actions specified in paragraphs (c)(3)(i), (c)(3)(ii), and (c)(3)(iii) of this AD, per Dornier Service Bulletin SB-328J-55-153, dated February 8, 2002.

(i) Remove and re-install the screws in the elevator trim tab (including applying zinc-chromate putty, torquing the screws, and removing the squeezed zinc-chromate putty).

(ii) Remove and re-install the screws in the rudder trim tab (including applying zinc-chromate putty, torquing the screws, and removing the squeezed zinc-chromate putty).

(iii) Remove and re-install the screws in the rudder spring tab (including applying zinc-chromate putty, torquing the screws, and removing the squeezed zinc-chromate putty).

(4) For airplanes having serial numbers 3175 through 3196, excluding serial numbers 3192 through 3194 inclusive: Remove and re-install the screws in the aileron trim tab (including applying zinc-chromate putty, torquing the screws, and removing the squeezed zinc-chromate putty), per Dornier Service Bulletin SB-328J-57-152, dated February 8, 2002.

(d) For Model 328-300 airplanes on which the actions specified in Dornier Service Bulletin SB-328J-55-074, Revision 1, dated December 11, 2001, have been accomplished, the requirements specified in paragraphs (c)(3)(i) and (c)(3)(ii) of this AD do not need to be accomplished.

Alternative Methods of Compliance

(e) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Incorporation by Reference

(g) The actions shall be done in accordance with the Dornier service bulletins listed in Table 2 of this AD as follows:

Table 2.—Service Bulletins
Dornier service bulletin | Revision | Date
SB-328-57-350 | 2 | January 16, 2002
SB-328-55-368 | 1 | December 11, 2001
SB-328-55-422 | Original | February 8, 2002
SB-328J-57-057 | 2 | January 16, 2002
SB-328J-55-074 | 1 | December 11, 2001
SB-328J-55-153 | Original | February 8, 2002
SB-328J-57-152 | Original | February 8, 2002

This incorporation by reference was approved by the Director of the Federal Register in accordance with 5 U.S.C. 552(a) and 1 CFR part 51. Copies may be obtained from FAIRCHILD DORNIER, DORNIER Luftfahrt GmbH, PO Box 1103, D-82230 Wessling, Germany. Copies may be inspected at the FAA, Transport Airplane Directorate, 1601 Lind Avenue, SW., Renton, Washington; or at the Office of the Federal Register, 800 North Capitol Street, NW., suite 700, Washington, DC.

Note 3: The subject of this AD is addressed in German airworthiness directives 2002-126/2 and 2002-127/2, both dated June 27, 2002.

Effective Date

(h) This amendment becomes effective on March 12, 2003.

Issued in Renton, Washington, on January 24, 2003.
Ali Bahrami,
Acting Manager, Transport Airplane Directorate, Aircraft Certification Service.

[FR Doc. 03-2152 Filed 2-4-03; 8:45 am]

BILLING CODE 4910-13-P